DEPARTMENT OF COMMERCE

National Oceanic and Atmospheric Administration

50 CFR Part 300

International Fisheries Regulations

CFR Correction

This rule is being published by the Office of the Federal Register to correct an editorial or technical error that appeared in the most recent annual revision of the Code of Federal Regulations.

In Title 50 of the Code of Federal Regulations, Parts 228 to 599, revised as of October 1, 2021, in § 300.21, the definition of “Vessel monitoring system (VMS)” is reinstated to read as follows:

§ 300.21 Definitions.

* * * * *

Vessel monitoring system (VMS) means an automated, remote system that provides information about a vessel's identity, location and activity, for the purposes of routine monitoring, control, surveillance and enforcement of area and time restrictions and other fishery management measures.

* * * * *

[FR Doc. 2022-03042 Filed 2-10-22; 8:45 am]

BILLING CODE 0099-10-D